DEPARTMENT OF LABOR

Employment and Training Administration

Notice of Determinations Regarding Eligibility to Apply for Worker Adjustment Assistance and NAFTA Transitional Adjustment Assistance

In accordance with section 223 of the Trade Act of 1974, as amended, the Department of Labor herein presents summaries of determinations regarding eligibility to apply for trade adjustment assistance for workers (TA-W) issued during the period of February, 2002.

In order for an affirmative determination to be made and a certification of eligibility to apply for worker adjustment assistance to be issued, each of the group eligibility requirements of section 222 of the Act must be met:

(1) That a significant number or proportion of the workers in the workers' firm, or an appropriate subdivision thereof have become totally or partially separated,

(2) That sales or production, or both, of the firm or subdivision have decreased absolutely, and

(3) That increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-39,624; Nedec America Corp./Power General, Canton, MA

TA-W-40,362; American Tissue Mills of Maine, Augusta, ME

TA-W-40,434; Imperial Carbide, Inc., Meadville, PA

TA-W-40,583; Mocaro Dyeing and Finishing, Inc., Statesville, NC

TA-W-40,704; Texfi Industries, Inc., Jefferson, GA

TA-W-40,597; Huhtamaki Food Service Div. Formerly Known as Packaging Mt. Carmel, PA

TA-W-40,750; Meridian Automotive Systems, Portland, OR

TA-W-40,804 & A; Cabinet Works LLC, Jefferson City, TN and Distinctive Woodworks LLC, Jefferson City, TN

TA-W-40,718; Bilco Manufacturing Corp., Macon, GA

TA-W-40,174; Diamond Tool and Die, Townville, PA

TA-W-39,422; Leatex Chemical Co., Philadelphia, PA

In the following cases, the investigation revealed that the criteria for eligibility have not been met for the reasons specified.

Increased imports did not contribute importantly to worker separations at the firm.

TA-W-40,870; Porex Technologies, Porous Products Group, A Div. Of Webmd Corp., College Point, NY

TA-W-40,809; Cascade General, Inc., Portland, OR

TA-W-39,704 Trico Products Corp., Buffalo, NY

TA-W-39,829; Acme Pattern Works, Inc., Chicago Heights, IL

TA-W-39,989; Crouse-Hinds, Div. Of Cooper Industries, Inc., Syracuse, NY

TA-W-40,135; GKN Aerospace North America, Carson, CA

TA-W-40,695; Nolato Shieldmate, Inc., Ilasca, IL

TA-W-40,721; Englehard Corp., McIntyre, GA

TA-W-40,765; Becton Dickinson, Hancock, NY

The workers firm does not produce an article as required for certification under section 222 of the Trade Act of 1974.

TA-W-40,770; Tree Machine Tools, Inc., Franklin, WI

TA-W-40,812; GeoComm Corp., El Paso, TX

The investigation revealed that criteria (2) has not been met. Sales or production did not decline during the relevant period as required for certification.

TA-W-40,443; James Hamilton Construction Co., Employed at Chico Mines Project, Silver City, NM

Affirmative Determinations for Worker Adjustment Assistance

The following certifications have been issued; the date following the company name and location of each determination references the impact date for all workers of such determination.

TA-W-40,573; Nortel Networks, Bohemia, NY: November 7, 2000.

TA-W-40,754; Molycorp, Inc., A Subsidiary of Unocal, Washington, PA: January 21, 2001

TA-W-39,735; Atchison Products, Inc., Boonville, MO: June 14, 2000.

TA-W-39,748; Engel Machinery, Inc., York, PA: August 6, 2000.

TA-W-40,037; Glad Rags, Inc., Buchanan, VA: August 31, 2000.

TA-W-40,106; Haskell—Senator International, Verona, PA: September 7, 2000.

TA-W-40,192; Camoplast Accufab, Inc., A Div. Of Camoplast, Ltd, Chillicothe, OH: September 26, 2000.

TA-W-40,284; The Carbide/Graphite Group, Inc., Niagara Falls, NY: September 24, 2000.

TA-W-40,308; Nachi Machining Technology Co., Machine Department, Macomb, MI: October 15, 2000.

TA-W-40,372; Square D Company, Schneider Electric North America, Middletown, OH: November 15, 2000.

TA-W-40,374; Osan Manufacturing, Boyertown, PA: November 16, 2000.

TA-W-40,705; ITT Industries, Newton, MA: December 18, 2000.

TA-W-40,463; Dunham-Bush, Inc., Harrisonburg, VA: October 31, 2000.

TA-W-40,500; Swift Spinning Mills, Inc., Marubeni Denim Div., Columbus, GA: December 19, 2000.

TA-W-40,561; Thermal Industries, Inc., Vinylium Corp., Pittsburgh, PA: October 19, 2000.

TA-W-40,722; Willow Creek Apparel, Inc., Jonesville, NC: January 7, 2001.

TA-W-40,783; Intertape Polymer Group, Inc., Central Products Company, Richmond, KY: December 21, 2000.

TA-W-40,841: FCI USA, Inc., Emigsville, PA: January 7, 2001.

TA-W-40,713; SDS Lumber Co., Plywood Div., Bingen, WA: January 9, 2001.

TA-W-40,618; Acordis Industrial Fibers, Inc., Scottsboro, AL: November 30, 2000.

TA-W-40,559; Maysville Garment, Inc., Maysville, NC: December 8, 2000.

TA-W-40,542; Vision Metals, Inc., Gulf States Tube Div., Rosenburg, TX: December 8, 2000.

TA-W-40,483, & A; Sumitomo Electric Wiring Systems, Inc., Wiring Harness Div., Edmonton, KY and Morgantown, KY: December 12, 2000.

TA-W-40,428; Sunlite Casual Furniture, Paragould, AR: December 4, 2000.

TA-W-40,377 & A; Dexter Shoe Co., Dexter, ME and National Sales Office, West Newton, MA: November 20, 2000.

TA-W-40,327; Storaenso North America, A Div. Of Storaenso OJY, Niagara, WI: October 29, 2001.

TA-W-40,257; H.R. Jones Veneer, Inc., Grand Ronde, OR: September 28, 2000.

TA-W-40,138; Cross Creek Apparel, LLC, Div of Russell Corp., Mount Airy, NC: March 12, 2001.

TA-W-39,717; Trio Tool and Die Manufacturing, Inc., Meadville, PA: July 17, 2000.

TA-W-39,532; Power Conversion Products, LLC, Crystal Lake, IL: June 18, 2000.

Also, pursuant to Title V of the North American Free Trade Agreement Implementation Act (P.L. 103-182) concerning transitional adjustment assistance hereinafter called (NAFTA-TAA) and in accordance with Section 250(a), Subchapter D, Chapter 2, Title II, of the Trade Act as amended, the Department of Labor presents summaries of determinations regarding eligibility to apply for NAFTA-TAA issued during the month of February, 2002.

In order for an affirmative determination to be made and a certification of eligibility to apply for NAFTA-TAA the following group eligibility requirements of section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increases imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations.

There was no shift in production from the subject firm to Canada or Mexico during the relevant period.

NAFTA-TAA-05507; Dana Corp., Victor Reinz Div., Robinson, IL

NAFTA-TAA-05510; Corning Asahi Video, Inc., A Div. of Corning Asahi Video, State College, PA

NAFTA-TAA-05836; Tyco Electronics Corp., Jacobus, PA

NAFTA-TAA-05702; Meridian Automotive Systems, Portland, OR

NAFTA-TAA-05741; Cooper Industries, Western Power Products, Hood River, OR

NAFTA-TAA-05765; Prudential Steel, Inc., A Div. of Maverick Tube Co., Longview, WA

NAFTA-TAA-05785; Symbol Technologies, Inc., Houston Manufacturing, Houston, TX

NAFTA-TAA-05220; Trico Products Corp., Buffalo, NY

NAFTA-TAA-05236; J and J Tool, Guys Mills, PA

NAFTA-TAA-05293; Acme Pattern Works, Inc., Chicago Heights, IL

NAFTA-TAA-05558; Mocaro Dyeing and Finishing, Inc., Statesville, NC

NAFTA-TAA-05560; Fine Tech, Inc., d/b/a/ Daeduck International, RTP Div., Durham, NC

NAFTA-TAA-05597; Dana Corp., Spicer Driveshaft Manufacturing, Inc., Lima, OH

NAFTA-TAA-05670; Greenwood Mills, Durst Plant, Greenwood, SC

The workers firm does not produce an article as required for certification under Section 250(a), Subchapter D, Chapter 2, Title II, of the Trade Act of 1974, as amended.

NAFTA-TAA-05617; Plexus Corp., Electronic Assembly Corp., Neehah, WI

NAFTA-TAA-05752; Cascade General, Inc., Portland, OR

NAFTA-TAA-05805; GeoComm Corp., El Paso, TX

NAFTA-TAA-05607; ANR Pipeline Co., Detroit, MI

Affirmative Determinations NAFTA-TAA

NAFTA-TAA-05217; Amphenol Corp., Sine Systems, Mt. Clemens, MI: July 30, 2000.

NAFTA-TAA-05594; Square D Co., Schneider Electric North America,

NAFTA-TAA-05677; Swift Spinning Mills, Inc., Marubeni Denim Div., Columbus, GA: December 19, 2000.

NAFTA-TAA-05718; Iris Graphics, Inc., Billerica, MA: January 7, 2001.

NAFTA-TAA-05769; Materials Processing, Inc., Coatings Div., Riverview, MI: January 8, 2001

NAFTA-TAA-05807; Angelica Corp., Angelica Apparel, Savannah, TN: January 23, 2001

NAFTA-TAA-05812; 3M Bedford Park, Industrial Tape and Specialty Div., Bedford Park, IL: January 25, 2001.

NAFTA-TAA-05406; H.R. Jones Veneer, Inc., Grand Ronde, OR: October 8, 2000.

NAFTA-TAA-05486; Dixon Ticonderoga Co., Sandusky, OH: October 22, 2000.

NAFTA-TAA-05570; Arris Corp. a/k/a Antex Corp., Arris Network Plastics, El Paso, TX and Arris Consolidated Warehouse, El Paso, TX: November 20, 2000.

NAFTA-TAA-5635 & A; Sumitomo Electric Wiring Systems, Inc., Wiring Harness Div., Edmonton, KY and Morgantown, KY: December 12, 2000.

NAFTA-TAA-05651; Bourns, Inc., Networks/Sensors Controls Div., Logan, UT: December 2, 2000.

NAFTA-TAA-05666; Spicer Manufacturing, Inc., A Subsidiary of Dana Corp., Department 92, Pottstown, PA: December 5, 2000.

NAFTA-TAA-05730; SDS Lumber Co., Plywood Div., Bingen, WA: January 9, 2001.

NAFTA-TAA-05768; Ultrafem, Missoula, MT: January 14, 2001.

NAFTA-TAA-05778; Tyco Electronics, Georgetown Plant, Georgetown, KY: January 22, 2001.

NAFTA-TAA-05784; Ferraz Shawmut, Inc., Newburyport, MA: January 24, 2001

NAFTA-TAA-05814; Tyco International LTD, Tyco Electronics Corp., Arab, AL: January 28, 2001

NAFTA-TAA-05180; Paxar Corp., Formerly US Label Artistic, Including Workers of SDS Service, Inc., Liberty, KY: August 8, 2000.

I hereby certify that the aforementioned determinations were issued during the month of February, 2002. Copies of these determinations are available for inspection in Room C-5311, U.S. Department of Labor, 2000 Constitution Avenue, NW., Washington, DC 20210 during normal business hours or will be mailed to persons who write to the above address.

Dated: March 4, 2002.
Edward A. Tomchick,
Director, Division of Trade Adjustment Assistance.

[FR Doc. 02-6672 Filed 3-19-02; 8:45 am]

BILLING CODE 4510-30-M